DEPARTMENT OF HOUSING AND URBAN DEVELOPMENT

[Docket No. FR-5750-N-18]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; COE: Mr. Scott Whiteford, Army Corps of Engineers, Real Estate, CEMP-CR, 441 G Street NW., Washington, DC 20314; (202) 761-5542; Coast Guard: Commandant, United States Coast Guard, Attn: Jennifer Stomber, 2100 Second St. SW., Stop 7901, Washington, DC 20593-0001; (202) 475-5609; Energy: Mr. David Steinau, Department of Energy, Office of Property Management, 1000 Independence Ave. SW., Washington, DC 20585 (202) 287-1503; GSA: Mr. Flavio Peres, General Services Administration, Office of Real Property Utilization and Disposal, 1800 F Street NW., Room 7040, Washington, DC 20405, (202) 501-0084; Navy: Mr. Steve Matteo, Department of the Navy, Asset Management Division, Naval Facilities Engineering Command, Washington Navy Yard, 1330 Patterson Ave. SW., Suite 1000, Washington, DC 20374; (202) 685-9426;

VA: Ms. Jessica L. Kaplan, Department of Veteran Affairs, 810 Vermont Ave. NW., (0031E), Washington, DC 20420; (These are not toll-free numbers).

Dated: April 24, 2014.
Mark Johnston,
Deputy Assistant Secretary for Special Needs.

TITLE V, FEDERAL SURPLUS PROPERTY PROGRAM FEDERAL REGISTER REPORT FOR 05/02/2014

Suitable/Available Properties

Building

California

MAD RIVER SINGLE WIDE TRAILER

Six Rivers National Park

Mad River CA

Landholding Agency: Agriculture

Property Number: 15201420001

Status: Excess

Comments: 600 sq. ft.; residence; very poor conditions due to water damage & age; secured area; contact Agriculture for more information

Hawaii

Building 241

Marine Corps Base

Kaneohe HI 96863

Landholding Agency: Navy

Property Number: 77201420005

Status: Excess

Comments: Off-site removal only; 1,296 sq. ft.; storage; relocation may be difficult due to deterioration; 70+ years old. Contact Navy for more information.

Building 1094

Marine Corps Base

Kaneohe HI 96863

Landholding Agency: Navy

Property Number: 77201420006

Status: Excess

Comments: Off-site removal only; relocation may be difficult due to deterioration; 20,830 sq. ft.; 12+ months vacant; contact Navy for more information.

Idaho

SO Warehouse #2

1341T (RPUID #110304151341)

St. Anthony ID 83445

Landholding Agency: Agriculture

Property Number: 15201420002

Status: Excess

Comments: 2,079 sq. ft.; warehouse; 70+yrs.-old; deteriorating; secured area; contact Agriculture for more information.

New York

A Scotia Depot

One Amsterdam Road

Scotia NY 12302

Landholding Agency: GSA

Property Number: 54201420003

Status: Surplus

GSA Number: 54201420003

Directions: Previously reported in 2006 but has been subdivided into smaller parcel.

Comments: 325,000 sq. ft.; storage; 120+ months vacant; poor conditions; holes in roof; contamination; access easement, contact GSA for more information.

North Carolina

Well House at WRC, Property ID

#SAW FAL-16434

Hartwell Lake and Dam

Wake NC 27587

Landholding Agency: COE

Property Number: 31201420001

Status: Unutilized

Comments: Off-site removal only; 36 sq. ft.; vacant; 34+ yrs. old; poor conditions; no future agency need; contact COE for more information.

Field Office, WRC, Property ID

#SAW FAL-16433

Hartwell Lake and Dam

Wake NC 27587

Landholding Agency: COE

Property Number: 31201420002

Status: Unutilized

Comments: Off-site removal only; 209 sq. ft.; vacant; 34+ yrs.-old; poor conditions; no future agency need; contact COE for more information.

Oklahoma

Greenhouse 13; RPUID 03.50709

07334 Plant Science & Water Res.

Conservation Lab

Stillwater OK 74075

Landholding Agency: Agriculture

Property Number: 15201420003

Status: Unutilized

Comments: 3,000 sq. ft.; 37+ yrs.-old; greenhouse; deteriorated; contact Agriculture for more information.

Washington

Bonneville Lock and Dam

Fish View Building

Town of N. Bonneville WA

Landholding Agency: COE

Property Number: 31201420003

Status: Underutilized

Directions: 3 planters; 2 out of the 3 planters have seating

Comments: Off-site removal only; fiber glass planters; no future agency need; contact COE for more information

Wisconsin

Deer Farm Main Cabin

Canthood Lake

Iron River WI

Landholding Agency: Agriculture

Property Number: 15201420004

Status: Excess

Comments: Off-site removal only; 1,368 sq. ft.; residence; 96+ months vacant; repairs needed; secured area; contact Agriculture for more information

Deer Farm Guest Cabin

Canthood Lake

Iron River WI

Landholding Agency: Agriculture

Property Number: 15201420005

Status: Unutilized

Comments: Off-site removal only; 1,260 sq. ft.; no future agency need; roof leaks extensively; mold; lead-based paint likely; contact Agriculture for more information

Building 2

Tomah VA Medical

Center

Tomah WI

Landholding Agency: VA

Property Number: 97201420001

Status: Unutilized

Comments: 26,756 sq. ft.; two-story plus raised basement; age: 81+ years-old; major renovations are needed; new sanitary plumbing system is needed; lead-based paint & asbestos; contact VA for more info.

Land

Alabama

Former QH2 Site

Henry Davis Rd.

Chunchula AL 36521

Landholding Agency: GSA

Property Number: 54201420002

Status: Surplus

GSA Number: 4-U-AL-0811AA

Comments: 2.5 acres; access by non-exclusive easement shared w/hunting club; contact GSA for more information

Ohio

Parcel #3

Glenn Research Center

Erie Co. OH

Landholding Agency: NASA

Property Number: 71201420003

Status: Underutilized

Comments: 11.5 acres; due to property's classification, the landholding agency will only be able to enter into a short-term lease w/utilization restrictions; contact NASA for more info.

Unsuitable Properties

Building

New Mexico

2 Buildings

Los Alamos National Laboratory

Los Alamos NM 87545

Landholding Agency: Energy

Property Number: 41201420001

Status: Excess

Directions: 53-0385, 53-0676

Comments: Highly secured area; public access denied; no alternative method to gain access w/out compromising national security.

Reasons: Secured Area

9 Buildings

Los Alamos National Lab

Los Alamos NM 87545

Landholding Agency: Energy

Property Number: 41201420002

Status: Excess

Directions: 03-0067, 36-1614, 03-1615, 03-1814, 16-0201, 16-0210, 33-0360, 35-0257, 39-0183

Comments: Highly secured area; public access denied & no alternative method to gain access w/out compromising national security.

Reasons: Secured Area

New York

U.S. Coast Guard Station

Niagara

1 Scott Avenue

Youngstown NY 14174

Landholding Agency: Coast Guard

Property Number: 88201420001

Status: Excess

Comments: Public access denied; no alter. method to gain access w/out compromising national security.

Reasons: Secured Area

Ohio

Big Island Pumping

Glenn Research Center

Erie Co. OH 44870

Landholding Agency: NASA

Property Number: 71201420001

Status: Unutilized

Comments: Public access denied and no alternative method to gain access w/out compromising national security

Reasons: Secured Area

Virginia

Building V-52

Naval Station Norfolk

Norfolk VA

Landholding Agency: Navy

Property Number: 77201420001

Status: Excess

Comments: Public access denied and no alternative method to gain access w/out compromising national security

Reasons: Secured Area

4 Buildings

Naval Station Norfolk

Norfolk VA 23511

Landholding Agency: Navy

Property Number: 77201420002

Status: Excess

Directions: P4, P28, P86, & W193

Comments: Public access denied and no alternative method to gain access w/out compromising national security

Reasons: Secured Area

3 Buildings

null

Norfolk VA 23511

Landholding Agency: Navy

Property Number: 77201420003

Status: Excess

Directions: FRP-64; FRP-65; FPR-404

Comments: Public access denied & no alternative method to gain access w/out compromising national security.

Reasons: Secured Area

Land

California

91110

Fort Hunter Liggett

Ft. Hunter Liggett CA 93928

Landholding Agency: Army

Property Number: 21201420001

Directions: government-owned land w/privately owned historic building

Status: Underutilized

Comments: Public access denied and no alternative method to gain access w/out compromising national security

Reasons: Secured Area

Florida

Former Communication Receiver

Site

14115 Hagen Ranch Rd.

Delray Beach FL 33437

Landholding Agency: GSA

Property Number: 54201420001

Status: Surplus

GSA Number: 4-U-FL-1326-AA

Directions: Disposal Agency: GSA; Landholding Agency: FAA

Comments: 75% of property located w/in airport runway; approx. 100 ft. from property

Reasons: Within airport runway clear zone

Ohio

Parcel #4

Glenn Research Center

Oxford Township OH 44847

Landholding Agency: NASA

Property Number: 71201420002

Status: Unutilized

Comments: Landlocked; can only be reached by crossing private property and there is no established right or means of entry.

Reasons: Not accessible by road

[FR Doc. 2014-09866 Filed 5-1-14; 8:45 am]

BILLING CODE 4210-67-P